DEPARTMENT OF HOMELAND SECURITY

U.S. Customs and Border Protection

Automated Commercial Environment (ACE) Export Manifest for Vessel Cargo Test: Expansion of Test To Include Additional Participants, Modification of Required Data Elements, and Extension of Test

AGENCY: U.S. Customs and Border Protection, Department of Homeland Security.

ACTION: General notice.

SUMMARY: This notice announces that CBP is modifying the U.S. Customs and Border Protection's (CBP's) Automated Commercial Environment (ACE) Export Manifest for Vessel Cargo Test, a National Customs Automation Program (NCAP) test concerning ACE export manifest capability, by making certain of the export manifest data elements optional. CBP is also extending the test and will be accepting additional applications for participation in this modified test from all parties meeting the eligibility requirements.

DATES: The modifications of the ACE Export Manifest for Vessel Cargo Test set forth in this document are effective August 14, 2017. The modified test will run until September 21, 2018. Applications from additional participants may be submitted at any time. Current test participants do not need to reapply. Comments concerning this notice and all aspects of the test may be submitted at any time during the test period to the email address below.

ADDRESSES: Applications to participate in the ACE Export Manifest for Vessel Cargo Test must be submitted via email to CBP Export Manifest at cbpvesselexportmanifest@cbp.dhs.gov. In the subject line of the email, please use “ACE Export Manifest for Vessel Cargo Test Application”. Written comments concerning program, policy, and technical issues may also be submitted via email to CBP Export Manifest at cbpvesselexportmanifest@cbp.dhs.gov. In the subject line of the email, please use “Comment on ACE Export Manifest for Vessel Cargo Test”.

FOR FURTHER INFORMATION CONTACT: Robert C. Rawls, Outbound Enforcement and Policy Branch, Office of Field Operations, U.S. Customs and Border Protection, via email at cbpvesselexportmanifest@cbp.dhs.gov.

SUPPLEMENTARY INFORMATION:

Background

The ACE Export Manifest for Vessel Cargo Test is a voluntary test in which participants agree to submit export manifest data to CBP electronically, at least 24 hours prior to loading of the cargo onto the vessel in preparation for departure from the United States. The ACE Export Manifest for Vessel Cargo Test is authorized under § 101.9(b) of title 19 of the Code of Federal Regulations (19 CFR 101.9(b)), which provides for the testing of NCAP programs or procedures. See Treasury Decision (T.D.) 95-21.

CBP announced the procedures and criteria related to participation in the ACE Export Manifest for Vessel Cargo Test in a notice published in the Federal Register on August 20, 2015 (80 FR 50644). On October 20, 2015, CBP issued a notice published in the Federal Register (80 FR 63575) correcting an error in the initial notice that misstated the technical capability requirements for submitting data to CBP. This test was originally set to run for approximately two years. For further details on the background and procedures regarding the test, please refer to the August 20, 2015 notice.

Expansion of Test to Additional Participants

In the August 20, 2015 notice announcing the initial phase of the ACE Export Manifest for Vessel Cargo Test, CBP stated that participation in the test was limited to nine stakeholders composed of a mix of a certain number of vessel carriers and freight forwarders or non-vessel operating common carriers (NVOCCs) who met the eligibility requirements. This notice announces that the ACE Export Manifest for Vessel Cargo Test is now open to all eligible applicants. CBP will endeavor to accept all new eligible applicants on a first come first serve basis; however, if the number of eligible applicants exceeds CBP's administrative capabilities, CBP reserves the right to select eligible participants in order to achieve a diverse participant pool.

Eligibility Requirements

Except for the expansion to additional participants, the eligibility requirements for the ACE Export Manifest for Vessel Cargo Test have not changed since the October 20, 2015 correction notice. For clarity and convenience to the public, CBP sets forth below the eligibility requirements for participation in the test.

Participation in the ACE Export Manifest for Vessel Cargo Test is limited to those parties able to electronically transmit manifest data in the identified acceptable format. Prospective ACE Export Manifest for Vessel Cargo Test participants must have the technical capability to electronically submit data to CBP and receive response message sets via Ocean CAMIR, ANSI X12, or Unified XML,¹ and must successfully complete certification testing with their client representative. Once parties have applied to participate, they must complete a test phase to determine if the data transmission is in the required readable format. Applicants will be notified once they have successfully completed testing and are permitted to participate fully in the test. In selecting participants, CBP will take into consideration the order in which the applications are received.

¹ Unified XML was not yet functional at the time of the original Automated Commercial Environment (ACE) Export Manifest for Vessel Cargo Test. It is now fully functional and available for use.

There are no restrictions with regard to the participant's organization size, location, or commodity type for participation in the test.

Modification of the Filing Condition of Certain Data Elements

One of the main purposes of the ACE Export Manifest for Vessel Cargo Test is to test the feasibility of requiring certain manifest information to be filed electronically in ACE at least 24 hours before the cargo is loaded on the vessel. Another purpose is to test the functionality regarding the filing of such export manifest data within the above specified time. Under the current regulatory requirements, the complete manifest is generally not required to be submitted until after the departure of the vessel. See 19 CFR 4.75, 4.76 and 4.84. The data and the results of the ACE Export Manifest for Vessel Cargo Test will aid CBP in determining which parties are the best source of the export manifest data and when the data is available to be submitted to CBP.

CBP has been consulting with the Commercial Customs Operations Advisory Committee (COAC) to address ongoing issues concerning the quality, accessibility, and timeliness of export manifest data received during the test. Through this process, the COAC advised CBP that certain data elements currently required under the test may not be available to the party submitting the export manifest data to CBP 24 hours prior to loading of the cargo onto the vessel in preparation for departure from the United States and urged CBP to make those data elements optional.

After evaluating the initial phase of the ACE Export Manifest for Vessel Cargo Test and considering COAC's comments, CBP has determined that, in order to better test the functionality and feasibility of submitting the specified export data at least 24 hours prior to loading of the cargo on the vessel, four of the previously mandatory or conditional data elements should be changed to optional. This will enable participants to submit the optional information when and if it is available. (Data elements which are “mandatory” must be provided to CBP for every shipment. Data elements which are “conditional” must be provided to CBP only if the particular information pertains to the cargo. Data elements which are “optional” may be provided to CBP but are not required.)

CBP is modifying the ACE Export Manifest for Vessel Cargo Test to change the following four mandatory or conditional data elements to optional:

• Name of the Master (Data Element #4)

• Number of House Bills of Lading (Data Element #9)

• Split Shipment Indicator (Data Element #22)

• Portion of Split Shipments (Data Element #23)

The remaining data elements under the ACE Export Manifest for Vessel Cargo Test continue to be mandatory, conditional, or optional as provided in the August 20, 2015 notice. The full list of data elements is set forth below. Unless otherwise noted, the data elements are mandatory.

(1) Mode of transportation (Vessel, containerized or Vessel, non-containerized)

(2) Name of ship or vessel

(3) Nationality of ship

(4) Name of Master (optional)

(5) Port of loading

(6) Port of discharge

(7) Bill of Lading number (Master and House)

(8) Bill of Lading type (Master, House, Simple or Sub)

(9) Number of House Bills of Lading (optional)

(10) Marks and Numbers (conditional)

(11) Container Numbers (conditional)

(12) Seal Numbers (conditional)

(13) Number and kind of packages

(14) Description of goods

(15) Gross Weight (lb. or kg.) or Measurements (per HTSUS)

(16) Shipper name and address

(17) Consignee name and address

(18) Notify Party name and address (conditional)

(19) Country of Ultimate Destination

(20) In-bond number (conditional)

(21) Internal Transaction Number (ITN) or AES Exemption Statement (per shipment)

(22) Split Shipment Indicator (Yes/No) (optional)

(23) Portion of split shipment (e.g., 1 of 10, 4 of 10, 5 of 10—Final, etc.) (optional)

(24) Hazmat Indicator (Yes/No)

(25) UN Number (conditional) (If the hazmat indicator is yes, then UN (for United Nations Number) or NA (North American Number) and the corresponding 4-digit identification number assigned to the hazardous material must be provided.)

(26) Chemical Abstract Service (CAS) Registry Number (conditional)

(27) Vehicle Identification Number (VIN) or Product Identification Number (conditional) (For shipments of used vehicles, the VIN must be reported, or for used vehicles that do not have a VIN, the Product Identification Number must be reported.)

If, after the conclusion of the ACE Export Manifest for Vessel Cargo Test, CBP decides to conduct rulemaking to amend the regulations concerning the filing of the vessel export cargo manifest, CBP will reevaluate the filing conditions for each data element to determine the feasibility of requiring that data element to be filed electronically in ACE within the specified time before the cargo is loaded on the vessel.

Extension of the Test

To continue further evaluation of the ACE Export Manifest for Vessel Cargo Test, CBP is extending the test for an additional year. The expanded and modified test will run until September 21, 2018.

Applicability of Initial Test Notice

Unless explicitly changed by this or subsequent notices published in the Federal Register, all other aspects of the initial test announced in the August 20, 2015 notice (and corrected in the October 20, 2015 notice), including test procedures and conditions, the application process, and the waiver of certain regulatory requirements, remain in effect.

Paperwork Reduction Act

In accordance with the Paperwork Reduction Act of 1995 (Pub. L. 104-13, 44 U.S.C. 3507), an agency may not conduct, and a person is not required to respond to, a collection of information unless the collection of information displays a valid control number assigned by the Office of Management and Budget (OMB). The collections of information in this NCAP test have been approved by OMB in accordance with the requirements of the Paperwork Reduction Act and assigned OMB control number 1651-0001.

Dated: August 8, 2017.
Todd C. Owen,
Executive Assistant Commissioner, Office of Field Operations.

[FR Doc. 2017-17079 Filed 8-11-17; 8:45 am]

BILLING CODE 9111-14-P